DEPARTMENT OF TRANSPORTATION

Federal Railroad Administration

[Docket Number FRA-2011-0088]

Petition for Waiver of Compliance

In accordance with Part 211 of Title 49 of the Code of Federal Regulations (CFR), this document provides the public notice that by a document dated January 4, 2012, the Valley Railroad Company (VALE) has petitioned the Federal Railroad Administration (FRA) for a waiver of compliance from certain provisions of the Federal railroad safety regulations contained at 49 CFR Part 215. FRA assigned the petition Docket Number FRA-2011-0088.

Specifically, VALE seeks a waiver of compliance from the Railroad Freight Car Safety Standards, 49 CFR 215.303, which requires stenciling on restricted freight cars, for 13 freight cars. The list of these 13 cars is contained in the Exhibit A of the petition letter, which is available in the same docket as this notice.

As information, VALE also requested Special Approval to continue in service of the same cars in accordance with 49 CFR 215.203(c). These cars are more than 50 years from their original construction date and, therefore, are restricted per 49 CFR 215.203(a), unless VALE receives a Special Approval from FRA.

The petition states that VALE is a non-insular, nongeneral system railroad located at 1 Railroad Avenue, Essex, Connecticut 06426. VALE exercises complete control of the operation and maintenance of the freight cars that are the subject of this petition. All 13 cars are over the age of 50 years. Since VALE has owned each of these cars, their use has been restricted. The cars have not been interchanged in regular freight operations with other railroads while under the petitioner's ownership.

These 13 cars will be used for historical display, operated for motion pictures, and special events. The cars will not be used for revenue freight service and will not be interchanged in regular freight operations with other railroads. The maximum load that each car would be permitted to carry, if any, is stated in Exhibit A (mentioned above).

The petitioner states that it will perform and conduct required service and shop inspections, and maintain the cars in compliance with all applicable regulations with the exception of the conditions that are the subject of this petition.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: (202) 493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 12, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on January 24, 2012.
Ron Hynes,
Acting Deputy Associate Administrator for Regulatory and Legislative Operations.

[FR Doc. 2012-1858 Filed 1-26-12; 8:45 am]

BILLING CODE 4910-06-P